DEPARTMENT OF ENERGY

Federal Energy Regulatory Commission

Combined Notice of Filings #1

Take notice that the Commission received the following electric rate filings:

Docket Numbers: ER11-47-014; ER12-1540-012; ER12-1541-012; ER12-1542-012; ER12-1544-012; ER14-594-016; ER14-867-002; ER14-868-003; ER16-323-011; ER17-1930-006; ER17-1931-006; ER17-1932-006; ER19-606-004; ER19-1941-002; ER20-649-002; ER21-136-003.

Applicants: Flat Ridge 3 Wind Energy, LLC, AEP Energy Partners, Inc., Flat Ridge 2 Wind Energy LLC, AEP Generation Resources Inc., Southwestern Electric Power Company, AEP Texas Inc., Public Service Company of Oklahoma, Ohio Valley Electric Corporation, AEP Retail Energy Partners LLC, AEP Energy, Inc., Ohio Power Company, Wheeling Power Company, Kingsport Power Company, Kentucky Power Company, Indiana Michigan Power Company, Appalachian Power Company.

Description: Notice of Change in Status of Appalachian Power Company, et al.

Filed Date: 3/17/22.

Accession Number: 20220317-5145.

Comment Date: 5 p.m. ET 4/7/22.

Docket Numbers: ER20-1090-001.

Applicants: NorthWestern Corporation.

Description: NorthWestern Corporation submits tariff filing per 35: Order 864 ADIT Compliance Filing to be effective 1/27/2020.

Filed Date: 3/18/22.

Accession Number: 20220318-5142.

Comment Date: 5 p.m. ET 4/8/22.

Docket Numbers: ER20-1828-003.

Applicants: PacifiCorp.

Description: Compliance filing: OATT Order 864 Compliance Filing—Third Deficiency Response to be effective 1/27/2020.

Filed Date: 3/18/22.

Accession Number: 20220318-5107.

Comment Date: 5 p.m. ET 4/8/22.

Docket Numbers: ER21-2513-003.

Applicants: Golden Spread Electric Cooperative, Inc.

Description: Compliance filing: 676-I Order Compliance to be effective 5/1/2022.

Filed Date: 3/18/22.

Accession Number: 20220318-5145.

Comment Date: 5 p.m. ET 4/8/22.

Docket Numbers: ER22-875-001.

Applicants: California Independent System Operator Corporation.

Description: Tariff Amendment: 2022-03-18 Certificate of Concurrence—LGIA McFarland—Amendment to be effective 11/29/2021.

Filed Date: 3/18/22.

Accession Number: 20220318-5146.

Comment Date: 5 p.m. ET 4/8/22.

Docket Numbers: ER22-1103-000.

Applicants: BRP Capital & Trade LLC.

Description: Supplement to February 23, 2022 BRP Capital & Trade LLC submits application for Market-Based Rate Authority.

Filed Date: 3/4/22.

Accession Number: 20220304-5298.

Comment Date: 5 p.m. ET 3/25/22.

Docket Numbers: ER22-1373-000.

Applicants: Southern California Edison Company.

Description: § 205(d) Rate Filing: LA Rosamond West Solar SA No. 281 TOT411 to be effective 3/19/2022.

Filed Date: 3/18/22.

Accession Number: 20220318-5000.

Comment Date: 5 p.m. ET 4/8/22.

Docket Numbers: ER22-1374-000.

Applicants: Midcontinent Independent System Operator, Inc.

Description: § 205(d) Rate Filing: 2022-03-18_Schedule 31 Annual Update Filing to be effective 5/18/2022.

Filed Date: 3/18/22.

Accession Number: 20220318-5008.

Comment Date: 5 p.m. ET 4/8/22.

Docket Numbers: ER22-1375-000.

Applicants: Florida Power & Light Company.

Description: Florida Power & Light Company Submits Notice of Cancellation of the Florida-Southern Transmission Export Allocation Agreement.

Filed Date: 3/14/22.

Accession Number: 20220314-5318.

Comment Date: 5 p.m. ET 4/4/22.

Docket Numbers: ER22-1376-000.

Applicants: PJM Interconnection, L.L.C. Cancellation of ISA, SA No. 5126; Queue No. AB1-169 to be effective 4/10/2022.

Filed Date: 3/18/22.

Accession Number: 20220318-5023.

Comment Date: 5 p.m. ET 4/8/22.

Docket Numbers: ER22-1377-000.

Applicants: Midcontinent Independent System Operator, Inc., American Transmission Company LLC.

Description: § 205(d) Rate Filing: Midcontinent Independent System Operator, Inc. submits tariff filing per 35.13(a)(2)(iii): 2022-03-18_SA 2801 ATC-City of Sturgeon Bay 2nd Rev CFA to be effective 3/18/2022.

Filed Date: 3/18/22.

Accession Number: 20220318-5035.

Comment Date: 5 p.m. ET 4/8/22.

Docket Numbers: ER22-1378-000.

Applicants: Golden Spread Electric Cooperative, Inc.

Description: § 205(d) Rate Filing: WPC Sched B Rider H Filing to be effective 5/17/2022.

Filed Date: 3/18/22.

Accession Number: 20220318-5057.

Comment Date: 5 p.m. ET 4/8/22.

Docket Numbers: ER22-1379-000.

Applicants: Midcontinent Independent System Operator, Inc., American Transmission Company LLC.

Description: § 205(d) Rate Filing: Midcontinent Independent System Operator, Inc. submits tariff filing per 35.13(a)(2)(iii): 2022-03-18 SA 2774 ATC-City of Cedarburg 2nd Rev CFA to be effective 5/18/2022.

Filed Date: 3/18/22.

Accession Number: 20220318-5067.

Comment Date: 5 p.m. ET 4/8/22.

Docket Numbers: ER22-1380-000.

Applicants: AltaGas Pomona Energy Inc.

Description: Tariff Amendment: AltaGas Pomona Energy Cancellation of MBR Tariff to be effective 5/17/2022.

Filed Date: 3/18/22.

Accession Number: 20220318-5075.

Comment Date: 5 p.m. ET 4/8/22.

Docket Numbers: ER22-1381-000.

Applicants: Pedricktown Cogeneration Company LP.

Description: Tariff Amendment: Notice of Cancellation to be effective 6/1/2022.

Filed Date: 3/18/22.

Accession Number: 20220318-5079.

Comment Date: 5 p.m. ET 4/8/22.

Docket Numbers: ER22-1382-000.

Applicants: Newark Bay Cogeneration Partnership, L.P.

Description: Tariff Amendment: Notice of Cancellation to be effective 6/1/2022.

Filed Date: 3/18/22.

Accession Number: 20220318-5081.

Comment Date: 5 p.m. ET 4/8/22.

Docket Numbers: ER22-1383-000.

Applicants: Martins Creek, LLC.

Description: Tariff Amendment: Notice of Cancellation to be effective 6/2/2022.

Filed Date: 3/18/22.

Accession Number: 20220318-5080.

Comment Date: 5 p.m. ET 4/8/22.

Docket Numbers: ER22-1384-000.

Applicants: Tri-State Generation and Transmission Association, Inc.

Description: Tariff Amendment: Notice of Cancellation of Service Agreement FERC No. 200 to be effective 2/16/2022.

Filed Date: 3/18/22.

Accession Number: 20220318-5091.

Comment Date: 5 p.m. ET 4/8/22.

Docket Numbers: ER22-1385-000.

Applicants: BHER Market Operations, LLC.

Description: Baseline eTariff Filing: BHER Market Operations, LLC MBR Tariff to be effective 5/17/2022.

Filed Date: 3/18/22.

Accession Number: 20220318-5094.

Comment Date: 5 p.m. ET 4/8/22.

Docket Numbers: ER22-1386-000.

Applicants: Tri-State Generation and Transmission Association, Inc.

Description: § 205(d) Rate Filing: Initial Filing of Service Agreement No. 108 and Service Agreement No. 208 to be effective 2/16/2022.

Filed Date: 3/18/22.

Accession Number: 20220318-5095.

Comment Date: 5 p.m. ET 4/8/22.

Docket Numbers: ER22-1387-000.

Applicants: Alabama Power Company, Georgia Power Company, Mississippi Power Company.

Description: Initial rate filing: Alabama Power Company submits tariff filing per 35.12: First City Solar Affected System Upgrade Agreement Filing to be effective 2/4/2022.

Filed Date: 3/18/22.

Accession Number: 20220318-5112.

Comment Date: 5 p.m. ET 4/8/22.

Docket Numbers: ER22-1388-000.

Applicants: Georgia Power Company.

Description: Initial rate filing: First City Solar Affected System Upgrade Agreement Filing to be effective 2/4/2022.

Filed Date: 3/18/22.

Accession Number: 20220318-5114.

Comment Date: 5 p.m. ET 4/8/22.

Docket Numbers: ER22-1389-000.

Applicants: Mississippi Power Company.

Description: Initial rate filing: First City Solar Affected System Upgrade Agreement Filing to be effective 2/4/2022.

Filed Date: 3/18/22.

Accession Number: 20220318-5115.

Comment Date: 5 p.m. ET 4/8/22.

Docket Numbers: ER22-1390-000.

Applicants: Jersey Central Power & Light Company, Pennsylvania Electric Company.

Description: Jersey Central Power & Light and Pennsylvania Electric Company Submit A Notice of Cancellation of the Wheeling and Supplemental Power Agreement among JCP&L, Penelec and the Borough of Lavallette, New Jersey, dated October 1, 1993.

Filed Date: 3/15/22.

Accession Number: 20220315-5299.

Comment Date: 5 p.m. ET 4/5/22.

Docket Numbers: ER22-1391-000.

Applicants: Jersey Central Power & Light Company, Pennsylvania Electric Company.

Description: Jersey Central Power & Light and Pennsylvania Electric Company Submit A Notice of Cancellation of the Wheeling and Supplemental Power Agreement with the Borough of Lavallette, New Jersey, dated October 1, 1993.

Filed Date: 3/15/22.

Accession Number: 20220315-5300.

Comment Date: 5 p.m. ET 4/5/22.

Docket Numbers: ER22-1392-000.

Applicants: Jersey Central Power & Light Company, Pennsylvania Electric Company.

Description: Jersey Central Power & Light and Pennsylvania Electric Company Submit A Notice of Cancellation of the Wheeling and Supplemental Power Agreement with the Borough of Pemberton, New Jersey, dated July 30, 1993.

Filed Date: 3/15/22.

Accession Number: 20220315-5301.

Comment Date: 5 p.m. ET 4/5/22.

Docket Numbers: ER22-1393-000.

Applicants: Elephant Energy, LLC.

Description: Notice of Cancellation of Market Based Rate Tariff of Elephant Energy, LLC.

Filed Date: 3/18/22.

Accession Number: 20220318-5171.

Comment Date: 5 p.m. ET 4/8/22.

Take notice that the Commission received the following electric reliability filings:

Docket Numbers: RR21-8-000.

Applicants: North American Electric Reliability Corporation.

Description: Amendment to August 18, 2021 Petition of the North American Electric Reliability Corporation for Approval of Revisions to the NERC Rules of Procedure Regarding Reliability Standards.

Filed Date: 3/18/22.

Accession Number: 20220318-5143.

Comment Date: 5 p.m. ET 4/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2022.
Debbie-Anne A. Reese,
Deputy Secretary.

[FR Doc. 2022-06238 Filed 3-23-22; 8:45 am]

BILLING CODE 6717-01-P